DEPARTMENT OF TRANSPORTATION

Federal Aviation Administration

14 CFR Part 71

[Docket No. FAA-2015-3899; Airspace Docket No. 15-AWP-14]

Amendment of Class D and Class E Airspace, Revocation of Class E Airspace; Chico, CA

AGENCY: Federal Aviation Administration (FAA), DOT.

ACTION: Final rule.

SUMMARY: This action modifies Class D airspace, Class E airspace extending upward from 700 feet above the surface, and removes Class E surface area airspace designated as an extension at Chico Municipal Airport, Chico, CA. The FAA found it necessary to amend the airspace area by increasing the Class E airspace extending upward from 700 feet above the surface for the safety and management of Instrument Flight Rules (IFR) operations for arriving and departing aircraft at the airport. The FAA found no standard instrument approach procedures requiring Class E surface area airspace designated as an extension to Class D airspace. This action changes from navigation aids to geographic coordinate references in the legal description and updates the geographic coordinates of Chico Municipal and Ranchaero Airports for the Class D and E airspace areas noted above.

DATES: Effective 0901 UTC, March 31, 2016. The Director of the Federal Register approves this incorporation by reference action under Title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 29591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: Steve Haga, Federal Aviation Administration, Operations Support Group, Western Service Center, 1601 Lind Avenue SW., Renton, WA 98057; telephone (425) 203-4563.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes controlled airspace at Chico, CA.

History

On November 13, 2015, the FAA published in the Federal Register a notice of proposed rulemaking (NPRM) to modify Class D airspace and Class E airspace extending upward from 700 feet above the surface, and remove Class E surface area airspace designated as an extension at Chico Municipal Airport, Chico, CA, (80 FR 70177). Interested parties were invited to participate in this rulemaking effort by submitting written comments on the proposal to the FAA. No comments were received. Subsequent to publication, the FAA found slight changes were necessary in the legal description of the Class E airspace extending upward from 700 feet above surface. These changes do not change the dimensions of the proposal.

Class D and Class E airspace designations are published in paragraph 5000, 6004, and 6005, respectively, of FAA Order 7400.9Z, dated August 6, 2015, and effective September 15, 2015, which is incorporated by reference in 14 CFR part 71.1. The Class E airspace designation listed in this document will be published subsequently in the Order.

Availability and Summary of Documents for Incorporation by Reference

This document amends FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Rule

This amendment to Title 14, Code of Federal Regulations (14 CFR) part 71 modifies Class D airspace, Class E airspace extending upward from 700 feet above the surface, and removes Class E surface area airspace as an extension at Chico Municipal Airport, Chico, CA. Class E airspace extending upward from 700 feet above the surface is modified to within a 4.1-mile radius east of Chico Municipal, extending to 6 miles from the southeast to the north, excluding that airspace within 1 NM of Ranchaero Airport, CA. This action removes reference to navigation aids and uses instead, geographic coordinate references in the legal descriptions. The geographic coordinates of the Chico Municipal and Ranchaero Airports are amended for the Class D and E airspace areas to coincide with the FAA's aeronautical database.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 5000 Class D Airspace.

* * * * *

AWP CA D Chico, CA [Modified]

Chico Municipal Airport, CA

(Lat. 39°47′43″ N., long. 121°51′30″ W.)

Ranchaero Airport, Chico, CA

(Lat. 39°43′10″ N., long. 121°52′14″ W.)

That airspace extending upward from the surface to and including 2,700 feet MSL within a 4.1-mile radius of Chico Municipal Airport, excluding the portion within a 1-mile radius of Ranchaero Airport. This Class D airspace area is effective during the specific dates and times established in advance by a Notice to Airmen. The effective date and time will thereafter be continuously published in the Airport/Facility Directory.

Paragraph 6004 Class E Airspace Areas Designated as an Extension to a Class D or Class E Surface Area.

* * * * *

AWP CA E4 Chico, CA [Removed]

Paragraph 6005 Class E Airspace Areas Extending Upward From 700 Feet or More Above the Surface of the Earth.

* * * * *

AWP CA E5 Chico, CA [Modified]

Chico Municipal Airport, CA

(Lat. 39°47′43″ N., long. 121°51′30″ W.)

Ranchaero Airport, Chico, CA

(Lat. 39°43′10″ N., long. 121°52′14″ W.)

That airspace extending upward from 700 feet above the surface bounded by a line beginning at lat. 39°43′57″ N., long. 121°45′28″ W., clockwise along the Chico Municipal Airport 6-mile radius to lat. 39°41′45″ N., long. 121°50′42″ W.; thence along the 174° bearing to lat. 39°43′38″ N., long. 121°51′05″ W., thence counter-clockwise along the Ranchaero Airport 1-mile radius to lat. 39°43′50″ N., long. 121°53′12″ W., thence along the 200° bearing to the Chico Municipal Airport 6-mile radius, thence clockwise to lat. 39°53′31″ N., long. 121°53′31″ W.; thence to lat. 39°51′48″ N., long. 121°52′04″ W., clockwise along the Chico Municipal Airport 4.1-mile radius to lat. 39°45′40″ N., long. 121°46′54″ W.; thence to the point of beginning.

Issued in Seattle, Washington, on January 15, 2016.
Tracey Johnson,
Manager, Operations Support Group, Western Service Center.

[FR Doc. 2016-01502 Filed 1-27-16; 8:45 am]

BILLING CODE 4910-13-P